ENVIRONMENTAL PROTECTION AGENCY

[EPA-HQ-OEI-2013-0565; FRL-9959-48-OEI]

Information Collection Request Submitted to OMB for Review and Approval; Comment Request; Confidentiality Rules (Renewal)

AGENCY: Environmental Protection Agency (EPA).

ACTION: Notice.

SUMMARY: The Environmental Protection Agency has submitted an information collection request (ICR), “Confidentiality Rules (Renewal)” (EPA ICR No. 1665.13, OMB Control No. 2020-0003) to the Office of Management and Budget (OMB) for review and approval in accordance with the Paperwork Reduction Act (44 U.S.C. 3501 et seq.). This is a proposed extension of the ICR, which is currently approved through February 28, 2017. Public comments were previously requested via the Federal Register (81 FR 62883) on September 13, 2016, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2017.

ADDRESSES: Submit your comments, referencing Docket ID Number EPA-HQ-OEI-2013-0565 to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Larry Gottesman, Agency FOIA Officer, FOIA, Libraries and Accessibility Division, Office of Environmental Information, 2822T, Environmental Protection Agency, 1200 Pennsylvania Ave. NW., Washington, DC 20460; telephone number: 202-566-2162; email address: Gottesman.Larry@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The U.S. Environmental Protection Agency (EPA) established the requirements set forth in 40 CFR, Part 2, Subpart B, “Confidentiality of Business Information (CBI)” to establish rules to govern business confidentiality claims, i.e., the handling by the Agency of business information which is or may be entitled to confidential treatment, determining whether such information is entitled to confidential treatment for reasons of business confidentiality and responding to Freedom of Information Act requests pursuant to 5 U.S.C. 552 for this information.

Form Numbers: None.

Respondents/Affected Entities: Manufacturing and non-manufacturing businesses submitting a document to EPA that it claims as CBI.

Respondent's Obligation to Respond: Voluntary.

Estimated Number of Respondents: 844 (total).

Frequency of Response: Once.

Total Estimated Burden: 488 hours (per year). Burden is defined at 5 CFR 1320.03(b).

Total Estimated Cost: $20,447 (per year).

Changes in the Estimates: There is a decrease of 1,045 hours in the total estimated respondent burden compared with the ICR currently approved by OMB. This decrease is due to a change in program requirements which reduces the reporting burden.

Courtney Kerwin,
Director, Regulatory Support Division.

[FR Doc. 2017-03482 Filed 2-22-17; 8:45 am]

BILLING CODE 6560-50-P